DEPARTMENT OF ENERGY

Federal Energy Regulatory Commission

Notice of Application Accepted for Filing and Soliciting Motions To Intervene and Protests

| Project Nos.
Clean River Power MR-1, LLC | P-13404-002
Clean River Power MR-2, LLC | P-13405-002
Clean River Power MR-3, LLC | P-13406-002
Clean River Power MR-5, LLC | P-13407-002
Clean River Power MR-6, LLC | P-13408-002
Clean River Power MR-7, LLC | P-13411-002
Clean River Power MR-8, LLC | P-13412-002

Take notice that the following hydroelectric applications have been filed with the Commission and are available for public inspection.

a. Type of Applications: Original Major Licenses.

b. Project Nos.: 13404-002, 13405-002, 13406-002, 13407-002, 13408-002, 13411-002, and 13412-002.

c. Date filed: October 31, 2012.

d. Applicants: Clean River Power MR-1, LLC; Clean River Power MR-2, LLC; Clean River Power MR-3, LLC; Clean River Power MR-5, LLC; Clean River Power MR-6, LLC; Clean River Power MR-7, LLC; and Clean River Power MR-8, LLC (Clean River Power), subsidiaries of Free Flow Power Corporation.

e. Name of Projects: Beverly Lock and Dam Water Power Project, P-13404-002; Devola Lock and Dam Water Power Project, P-13405-002; Malta/McConnelsville Lock and Dam Water Power Project, P-13406-002; Lowell Lock and Dam Water Power Project, P-13407-002; Philo Lock and Dam Water Power Project, P-13408-002; Rokeby Lock and Dam Water Power Project, P-13411-002; and Zanesville Lock and Dam Water Power Project, P-13412-002.

f. Locations: At existing locks and dams on the Muskingum River in Washington, Morgan, and Muskingum counties, Ohio (see table below for specific project locations). The locks and dams were formally owned and operated by the U.S. Army Corps of Engineers, but are now owned and operated by the Ohio Department of Natural Resources, Division of Parks and Recreation.

Project No. | Projects | County(s) | City/town
P-13404-002 | Beverly Lock and Dam | Washington and Morgan | Upstream of the City of Beverly, OH.
P-13405-002 | Devola Lock and Dam | Washington | Near the City of Devola, OH.
P-13406-002 | Malta/McConnelsville Lock and Dam | Morgan | On the southern shore of the Town of McConnelsville, OH.
P-13407-002 | Lowell Lock and Dam | Washington | West of the City of Lowell, OH.
P-13408-002 | Philo Lock and Dam | Muskingum | North of the City of Philo, OH.
P-13411-002 | Rokeby Lock and Dam | Morgan and Muskingum | Near the City of Rokeby, OH.
P-13412-002 | Zanesville Lock and Dam | Muskingum | Near the center of the City of Zanesville, OH.

g. Filed Pursuant to: Federal Power Act 16 U.S.C. 791 (a)-825(r).

h. Applicant Contacts: Ramya Swaminathan, Chief Operating Officer, Free Flow Power Corporation, 239 Causeway Street, Suite 300, Boston, MA 02114; or at (978) 283-2822.

Daniel Lissner, General Counsel, Free Flow Power Corporation, 239 Causeway Street, Suite 300, Boston, MA 02114; or at (978) 283-2822.

Alan Topalian, Regulatory Attorney, Free Flow Power Corporation, 239 Causeway Street, Suite 300, Boston, MA 02114; or at (978) 283-2822.

i. FERC Contact: Aaron Liberty at (202) 502-6862; or email at aaron.liberty@ferc.gov.

j. Deadline for filing motions to intervene and protests: 60 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filings, documents may also be paper-filed. To paper-file, mail an original and five copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. These applications have been accepted for filing, but are not ready for environmental analysis at this time.

l. The proposed Zanesville Lock and Dam Project would be located at the existing Zanesville dam on the Muskingum River at RM 77.4. The Zanesville dam is a 513-foot-long, 18.8-foot-high dam that impounds a 470-acre reservoir at a normal pool elevation of 686.27 NAVD 88. The project would also consist of approximately 0.6 miles of the existing 59-foot-wide canal from the dam downstream to the proposed powerhouse and the following new facilities: (1) A 135-foot-long, 10-foot-high, 30-foot-wide intake structure with trash racks that contain 2-inch clear bar spacing; (2) two 10-foot diameter, 62-foot-long buried steel penstocks; (3) a 45-foot by 37-foot powerhouse located approximately 2,750 feet downstream of the dam on the bank of the canal; (4) two turbine-generator units providing a combined installed capacity of 2 MW; (5) a 31-foot-long, 37-foot-wide draft tube; (6) a 10-foot-long, 50-foot-wide tailrace; (7) a 40-foot by 40-foot substation; (8) a 400-foot-long, three-phase, overhead 69-kV transmission line to connect the project substation to the local utility distribution lines; and (9) appurtenant facilities. The average annual generation would be about 12,295 MWh.

The proposed Philo Lock and Dam Project would be located at the existing Philo dam on the Muskingum River at RM 68.6. The Philo dam is a 730-foot-long, 17-foot-high dam that impounds a 533-acre reservoir at a normal pool elevation of 671.39 NAVD 88. The applicant proposes to remove 128 feet of the existing dam to construct a 40-foot-long flap gate. The project would also consist of the following new facilities: (1) A 37-foot-long, 52-foot-high, 80-foot-wide intake structure with trash racks that contain 2-inch clear bar spacing; (2) a 75-foot by 160-foot powerhouse located on the bank of the Muskingum River opposite the existing lock; (3) two turbine-generator units providing a combined installed capacity of 3 MW; (4) a 65-foot-long, 80-foot-wide draft tube; (5) a 140-foot-long, 180-foot-wide tailrace; (6) a 40-foot by 40-foot substation; (7) a 1,600-foot-long, three-phase, overhead 69-kV transmission line to connect the project substation to the local utility distribution lines; and (8) appurtenant facilities. The average annual generation would be about 15,957 MWh.

The proposed Rokeby Lock and Dam Project would be located at the existing Rokeby dam on the Muskingum River at RM 57.4. The Rokeby dam is a 525-foot-long, 20-foot-high dam that impounds a 615-acre reservoir at a normal pool elevation of 660.3 NAVD 88. The project would also consist of the following new facilities: (1) A 37-foot-long, 52-foot-high, 80-foot-wide intake structure with trash racks that contain 2-inch clear bar spacing; (2) a 75-foot by 160-foot powerhouse located on the bank of the Muskingum River opposite the existing lock; (3) two turbine-generator units providing a combined installed capacity of 4 MW; (4) a 65-foot-long, 75-foot-wide draft tube; (5) a 160-foot-long, 200-foot-wide tailrace; (6) a 40-foot by 40-foot substation; (7) a 490-foot-long, three-phase, overhead 69-kV transmission line to connect the project substation to the local utility distribution lines; and (8) appurtenant facilities. The average annual generation would be about 17,182 MWh.

The proposed Malta/McConnelsville Lock and Dam Project would be located at the existing Malta/McConnelsville dam on the Muskingum River at RM 49.4. The Malta/McConnelsville dam is a 605.5-foot-long, 15.2-foot-high dam that impounds a 442-acre reservoir at a normal pool elevation of 649.48 NAVD 88. The applicant proposes to remove 187.5 feet of the existing dam to construct a 100-foot-long overflow weir. The project would also consist of the following new facilities: (1) a 37-foot-long, 52-foot-high, 80-foot-wide intake structure with trash racks containing 2-inch clear bar spacing; (2) a 80-foot by 160-foot powerhouse located adjacent to the right bank of the dam; (3) two turbine-generator units providing a combined installed capacity of 4.0 MW; (4) a 65-foot-long, 80-footwide draft tube; (5) a 100-foot-long, 130-foot-wide tailrace; (6) a 40-foot by 40-foot substation; (7) a 1,500-foot-long, three-phase, overhead 69-kV transmission line to connect the project substation to the local utility distribution lines; and (8) appurtenant facilities. The average annual generation would be about 21,895 MWh.

The proposed Beverly Lock and Dam Project would be located at the existing Beverly Lock and Dam on the Muskingum River at river mile (RM) 24.6. The Beverly dam is a 535-foot-long, 17-foot-high dam that impounds a 490-acre reservoir at a normal pool elevation of 616.36 North American Vertical Datum of 1988 (NAVD 88). The project would also consist of the following new facilities: (1) a 37-foot-long, 52-foot-high, 88-foot-wide intake structure with trash racks containing 2-inch clear bar spacing; (2) a 75-foot by 160-foot powerhouse located downstream of the dam on the left bank of the Muskingum River; (3) two turbine-generator units providing a combined installed capacity of 3.0 megawatts (MW); (4) a 65-foot-long, 75-foot-wide draft tube; (5) a 90-foot-long, 150-foot-wide tailrace; (6) a 40-foot by 40-foot substation; (7) a 970-foot-long, three-phase, overhead 69-kilovolt (kV) transmission line to connect the project substation to the local utility distribution lines; and (8) appurtenant facilities. The average annual generation would be about 17,853 megawatt-hours (MWh).

The proposed Lowell Lock and Dam Project would be located at the existing Lowell dam on the Muskingum River at RM 13.6. The Lowell dam is a 840-foot-long, 18-foot-high dam that impounds a 628-acre reservoir at a normal pool elevation of 607.06 NAVD 88. The applicant proposes to remove 204 feet of the existing dam to construct a 143.5-foot-long overflow weir. The project would also consist of the following new facilities: (1) A 37-foot-long, 23-foot-high, 80-foot-wide intake structure with trash racks that contain 2-inch clear bar spacing; (2) a 75-foot by 160-foot powerhouse located adjacent to the left bank of the dam; (3) two turbine-generator units providing a combined installed capacity of 5 MW; (4) a 65-foot-long, 75-foot-wide draft tube; (5) a 100-foot-long, 125-foot-wide tailrace; (6) a 40-foot by 40-foot substation; (7) a 1,200-foot-long, three-phase, overhead 69-kV transmission line to connect the project substation to the local utility distribution lines; and (8) appurtenant facilities. The average annual generation would be about 30,996 MWh.

The proposed Devola Lock and Dam Project would be located at the existing Devola Lock and Dam on the Muskingum River at RM 5.8. The Devola dam is a 587-foot-long, 17-foot-high dam that impounds a 301-acre reservoir at a normal pool elevation of 592.87 NAVD 88. The applicant proposes to remove 187 feet of the existing dam to construct a 154-foot-long overflow weir. The project would also consist of the following new facilities: (1) A 37-foot-long, 52-foot-high, 80-foot-wide intake structure with trash racks containing 2-inch clear bar spacing; (2) a 80-foot by 160-foot powerhouse located on the bank of the Muskingum River opposite the existing lock; (3) two turbine-generator units providing a combined installed capacity of 4.0 MW; (4) a 65-foot-long, 80-foot-wide draft tube; (5) a 125-foot-long, 140-foot-wide tailrace; (6) a 40-foot by 40-foot substation; (7) a 3,600-foot-long, three-phase, overhead 69-kV transmission line to connect the project substation to the local utility distribution lines; and (8) appurtenant facilities. The average annual generation would be about 20,760 MWh.

The applicant proposes to operate all seven projects in a run-of-river mode, such that the water surface elevations within each project impoundment would be maintained at the crest of each respective dam spillway.

m. A copy of the applications are available for review at the Commission in the Public Reference Room or may be viewed on the Commission's Web site at http://www.ferc.gov using the “eLibrary” link. Enter the docket number excluding the last three digits in the docket number field to access the document. For assistance, contact FERC Online Support. Copies are also available for inspection and reproduction at the address in item h above.

Register online at http://www.ferc.gov/docs-filing/esubscription.asp to be notified via email of new filings and issuances related to these or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any protests or motions to intervene must be received on or before the specified deadline for the particular application.

When the applications are ready for environmental analysis, the Commission will issue a public notice requesting comments, recommendations, terms and conditions, or prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the applications directly from the applicant. A copy of any protest or motion to intervene must be served upon each representative of the applicant specified in the particular application.

Dated: May 8, 2013.
Kimberly D. Bose,
Secretary.

[FR Doc. 2013-11667 Filed 5-15-13; 8:45 am]

BILLING CODE 6717-01-P